CONSUMER PRODUCT SAFETY COMMISSION

16 CFR Part 1250

[CPSC Docket No. 2024-0027]

Safety Standard for Toys: Requirements for Water Beads; Extension of Comment Period; Correction

AGENCY: Consumer Product Safety Commission.

ACTION: Notice of proposed rulemaking; extension of comment period; correction.

SUMMARY: On November 8, 2024, the U.S. Consumer Product Safety Commission (CPSC) published an extension of the comment period for the Notice of Proposed Rulemaking: Safety Standard for Toys: Requirements for Water Beads. In this document, CPSC is correcting an incorrect heading in that document.

DATES: Submit comments by December 8, 2024.

FOR FURTHER INFORMATION CONTACT: Alberta E. Mills, Office of the Secretary, U.S. Consumer Product Safety Commission, 4330 East West Highway, Bethesda, Maryland 20814, telephone: 301-504-7479; email: cpsc-os@cpsc.gov.

SUPPLEMENTARY INFORMATION:

Correction

In FR Doc. 2024-25876 beginning on page 88684 in the issue of Friday, November 8, 2024, make the following correction:

On page 88685, in the third column, correct the heading “C. Assessment of the JPMA Request” to read “C. Assessment of The Toy Association Request”.

Alberta E. Mills,
Secretary, Consumer Product Safety Commission.

[FR Doc. 2024-28042 Filed 11-27-24; 8:45 am]

BILLING CODE 6355-01-P